FEDERAL ACCOUNTING STANDARDS ADVISORY BOARD

Preliminary Views on Eliminating the Category “Required Supplementary Stewardship Information”; Notice of Public Hearing and Request for Written Comments

AGENCY: Federal Accounting Standards Advisory Board.

ACTION: Notice of public hearing on April 27, 2001.

Public Hearing: April 27, 2001 (extension to an additional date or dates may be announced at the hearing), beginning at 9 a.m., Room 6N30, U.S. General Accounting Office, 441 G Street, NW., Washington, DC 20548.

The Deadline for Written Notice of Intent to Speak on April 27 is April 13, 2001.

Basis for Hearing: Pursuant to section 10(a)(2) of the Federal Advisory Committee Act (Pub. L. No. 92-463), as amended, notice is hereby given that a public hearing of the Federal Accounting Standards Advisory Board will be held on Friday, April 27, 2001 beginning at 9 a.m. in room 6N30 of the General Accounting Office, 441 G St., NW., Washington, DC. The purpose of the meeting is to obtain information from interested individuals, organizations, and groups about the issues discussed in Preliminary Views on Eliminating the Category “Required Supplementary Stewardship Information.” Copies of this document were mailed in December to those on FASAB's mailing list. Additional copies are available on request from FASAB or on the World Wide Web at http://www.financenet.gov/financenet/fed/fasab/exposure.htm. Members of the Board and its staff will conduct the hearing. Interested parties are encouraged to participate.

Public Hearing Oral Presentation Requirements

Individuals, organizations, or groups that want to make an oral presentation at the public hearing should provide, by April 13, 2001, a written notification of intent and written comments addressing the issues in Preliminary Views. The notification and written submission should be addressed to Wendy Comes, Executive Director, at comesw@gao.gov or at: Federal Accounting Standards Advisory board, 441 G Street NW., Mailstop 6K17V, Washington, DC 20548.

The hearing may be canceled if insufficient interest is expressed by the deadline. The Board intends to schedule all who want to make oral presentations and will notify them of the time of the presentation. The time allotted each individual, organization, or group will be limited to about 30 minutes—10 minutes to summarize or elaborate on the written submissions, or to comment on the written submissions or presentations of others; and 20 minutes to respond to questions from those conducting the hearings. Please contact FASAB by e-mail as shown above or by calling 202-512-7350 at least 24 hours before the meeting for information on building security and requirements for admission.

FOR FURTHER INFORMATION CONTACT: Wendy M. Comes, Executive Director, 441 G Street, NW., Mail Stop 6K17V, Washington, DC 20548, or call (202) 512-7357. Fax: (202) 512-7366.

Authority: Federal Advisory Committee Act. Pub. L. No. 92-463, Section 10(a)(2), 86 Stat. 770, 774 (1972) (current version at 5 U.S.C. app. Section 10(a)(2) (1988); 41 CFR 101-6.1015 (1990).

Dated: March 23, 2001.
Wendy M. Comes,
Executive Director.

[FR Doc. 01-7761 Filed 3-28-01; 8:45 am]

BILLING CODE 1610-01-M